NUCLEAR REGULATORY COMMISSION

Advisory Committee on Reactor Safeguards; Revised

In accordance with the purposes of Sections 29 and 182b. of the Atomic Energy Act (42 U.S.C. 2039, 2232b), the Advisory Committee on Reactor Safeguards will hold a meeting on May 10-11, 2001, in Conference Room T-2B3, 11545 Rockville Pike, Rockville, Maryland. The notice of this meeting was previously published in the Federal Register on Thursday, April 19, 2001 (66 FR 20168).

Thursday, May 10, 2001

8:30 A.M.-8:35 A.M.: Opening Remarks by the ACRS Chairman (Open)—The ACRS Chairman will make opening remarks regarding the conduct of the meeting.

8:35 A.M.-10:20 A.M.: Final Review of the License Renewal Application for Arkansas Nuclear One (ANO), Unit 1 (Open)—The Committee will hear presentations by and hold discussions with representatives of the NRC staff and Entergy Operations, Inc. regarding the license renewal application for ANO, Unit 1 and the associated staff's Safety Evaluation Report.

10:30 A.M.-12:30 P.M.: Members Attendance at the Commission Meeting on the Office of Nuclear Regulatory Research Programs and Performance (Open)—Drs. Powers and Wallis are scheduled to participate in this meeting which will be held in the Commissioners' Conference Room, One White Flint North. Other members will be attending this meeting as observers.

1:30 P.M.-3 P.M.: Risk-Based Performance Indicators (Open)—The Committee will hear presentations by and hold discussions with representatives of the NRC staff regarding the staff's draft document entitled,'Risk-Based Performance Indicators: Results of Phase 1 Development,” and related matters.

3:15 P.M.-4:15 P.M.: Discussion of South Texas Project Nuclear Operating Company (STPNOC) Exemption Request (Open)—The Committee will discuss the South Texas Project Nuclear Operating Company Exemption Request.

4:15 P.M.-7 P.M.: Discussion of Proposed ACRS Reports (Open)—The Committee will discuss proposed ACRS reports on matters considered during this meeting, as well as a proposed ACRS report on Management Directive 6.4 associated with the revised Generic Safety Issue Process.

Friday, May 11, 2001

8:30 A.M.-8:35 A.M.: Opening Remarks by the ACRS Chairman (Open)—The ACRS Chairman will make opening remarks regarding the conduct of the meeting.

8:35 A.M.-10 A.M.: Discussion of Topics for Meeting with the NRC Commissioners (Open)—The Committee will discuss topics scheduled for its meeting with the NRC Commissioners.

10:30 A.M.-12:30 P.M.: Meeting with the NRC Commissioners (Open)—The Committee will meet with the NRC Commissioners, Commissioners' Conference Room, One White Flint North to discuss: Proposed framework for risk-informed changes to 10 CFR Part 50; South Texas Project Exemption Request; Issues Associated with Thermal-Hydraulic Codes; Status Report on Steam Generator Tube Integrity Issues; and Status of ACRS Activities Associated with License Renewal.

1:30 P.M.-2:30 P.M.: Discussion of General Design Criteria (Open)—The Committee will hear a presentation by and hold discussions with Mr. Sorensen, ACRS Senior Fellow, regarding his views on risk-informing the General Design Criteria that are included in Appendix A to 10 CFR Part 50.

2:30 P.M.-3:15 P.M.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, and organizational and personnel matters relating to the ACRS.

3:30 P.M.-3:45 P.M.: Reconciliation of ACRS Comments and Recommendations (Open)—The Committee will discuss the responses from the NRC Executive Director for Operations (EDO) to comments and recommendations included in recent ACRS reports and letters. The EDO responses are expected to be made available to the Committee prior to the meeting.

3:45 P.M.-4 P.M.: Miscellaneous (Open)—The Committee will discuss matters related to the conduct of Committee activities and matters and specific issues that were not completed during previous meetings, as time and availability of information permit.

Procedures for the conduct of and participation in ACRS meetings were published in the Federal Register on October 11, 2000 (65 FR 60476). In accordance with these procedures, oral or written views may be presented by members of the public, including representatives of the nuclear industry. Electronic recordings will be permitted only during the open portions of the meeting and questions may be asked only by members of the Committee, its consultants, and staff. Persons desiring to make oral statements should notify Mr. James E. Lyons, ACRS, five days before the meeting, if possible, so that appropriate arrangements can be made to allow necessary time during the meeting for such statements. Use of still, motion picture, and television cameras during the meeting may be limited to selected portions of the meeting as determined by the Chairman. Information regarding the time to be set aside for this purpose may be obtained by contacting Mr. James E. Lyons prior to the meeting. In view of the possibility that the schedule for ACRS meetings may be adjusted by the Chairman as necessary to facilitate the conduct of the meeting, persons planning to attend should check with Mr. James E. Lyons if such rescheduling would result in major inconvenience.

Further information regarding topics to be discussed, whether the meeting has been canceled or rescheduled, the Chairman's ruling on requests for the opportunity to present oral statements, and the time allotted therefor can be obtained by contacting Mr. James E. Lyons (telephone 301-415-7371), between 7:30 a.m. and 4:15 p.m., EDT.

ACRS meeting agenda, meeting transcripts, and letter reports are available for downloading or viewing on the internet at http://www.nrc.gov/ACRSACNW.

Videoteleconferencing service is available for observing open sessions of ACRS meetings. Those wishing to use this service for observing ACRS meetings should contact Mr. Theron Brown, ACRS Audio Visual Technician (301-415-8066), between 7:30 a.m. and 3:45 p.m., EDT, at least 10 days before the meeting to ensure the availability of this service. Individuals or organizations requesting this service will be responsible for telephone line charges and for providing the equipment facilities that they use to establish the videoteleconferencing link. The availability of videoteleconferencing services is not guaranteed.

Dated: May 2, 2001.
Andrew L. Bates,
Advisory Committee Management Officer.

[FR Doc. 01-11942 Filed 5-10-01; 8:45 am]

BILLING CODE 7590-01-P